SECURITIES AND EXCHANGE COMMISSION

Sunshine Act Meetings

TIME AND DATE: Notice is hereby given, pursuant to the provisions of the Government in the Sunshine Act, Public Law 94-409, the Securities and Exchange Commission will hold an Open Meeting on Wednesday, May 6, 2020 at 1:00 p.m.

PLACE: The meeting will be held via remote means and/or at the Commission's headquarters, 100 F Street NE, Washington, DC 20549.

STATUS: This meeting will begin at 1:00 p.m. (ET) and will be open to the public via audio webcast only on the Commission's website at www.sec.gov.

MATTER TO BE CONSIDERED: Whether to adopt a final order, following the issuance of a proposed order on January 8, 2020 for public comment, that would require the national securities exchanges for equities and FINRA to propose a single, new national market system (NMS) plan to increase transparency and address inefficiencies, conflicts of interest and other issues presented by the current governance structure of the three NMS plans that govern the public dissemination of real-time, consolidated equity market data for NMS stocks.

CONTACT PERSON FOR MORE INFORMATION: For further information and to ascertain what, if any, matters have been added, deleted or postponed, please contact Vanessa A. Countryman, Office of the Secretary, at (202) 551-5400.

Dated: April 29, 2020.
Vanessa A. Countryman,
Secretary.

[FR Doc. 2020-09560 Filed 4-30-20; 11:15 am]

BILLING CODE 8011-01-P